SMALL BUSINESS ADMINISTRATION

[Declaration of Disaster #3327]

State of Texas

Harrison County and the contiguous counties of Gregg, Marion, Panola, Rusk and Upshur in the State of Texas; Caddo County in the State of Louisiana constitute a disaster area as a result of damages caused by flooding that occurred from February 16 through March 10, 2001. Applications for loans for physical damage as a result of this disaster may be filed until the close of business on May 29, 2001 and for economic injury until the close of business on December 31, 2001 at the address listed below or other locally announced locations: U.S. Small Business Administration, Disaster Area 3 Office, 4400 Amon Carter Blvd., Suite 102, Ft. Worth, TX 76155.

The interest rates are:

| Percent
For Physical Damage:
Homeowners with credit available elsewhere | 7.000
Homeowners without credit available elsewhere | 3.500
Businesses with credit available elsewhere | 8.000
Businesses and non-profit organizations without credit available elsewhere | 4.000
Others (including non-profit organizations) with credit available elsewhere | 7.000
For Economic Injury:
Businesses and small agricultural cooperatives without credit available elsewhere | 4.000

The number assigned to this disaster for physical damage is 332706 for Texas and 332806 for Louisiana.

The number assigned for economic injury is 9L3100 for Texas and 9L3200 for Louisiana.

(Catalog of Federal Domestic Assistance Program Nos. 59002 and 59008).
Dated: March 28, 2001.
John Whitmore,
Acting Administrator.

[FR Doc. 01-9067 Filed 4-11-01; 8:45 am]

BILLING CODE 8025-01-U